DEPARTMENT OF AGRICULTURE

Animal and Plant Health Inspection Service

7 CFR Part 319

[Docket No. 03-069-3]

RIN 0579-AB85

Public Meeting; Criteria for New Category of Imported Nursery Stock

AGENCY: Animal and Plant Health Inspection Service, USDA.

ACTION: Notice of meeting and reopening of comment period.

SUMMARY: We are advising the public that the Animal and Plant Health Inspection Service will hold a meeting concerning the possibility of establishing a category of plant taxa excluded pending pest risk analysis with respect to the importation of plants for planting. In order to allow interested persons who cannot attend the meeting an opportunity to prepare and submit comments, we are also reopening the comment period for our December 2004 advance notice of proposed rulemaking regarding whether and how we should amend the regulations concerning the importation of nursery stock.

DATES: The public meeting will be held on May 25, 2005, from 8:30 a.m. to 5 p.m. We will also consider written comments that we receive on or before June 3, 2005.

ADDRESSES: The public meeting will be held at the USDA Center at Riverside, 4700 River Road, Riverdale, MD. You may submit written comments by either of the following methods:

• EDOCKET: Go to http://www.epa.gov/feddocket to submit or view public comments, access the index listing of the contents of the official public docket, and to access those documents in the public docket that are available electronically. Once you have entered EDOCKET, click on the “View Open APHIS Dockets” link to locate Docket 03-069-1.

• Postal Mail/Commercial Delivery: Please send four copies of your comment (an original and three copies) to Docket No. 03-069-1, Regulatory Analysis and Development, PPD, APHIS, Station 3C71, 4700 River Road Unit 118, Riverdale, MD 20737-1238. Please state that your comment refers to Docket No. 03-069-1.

Reading Room: You may read any comments that we receive on Docket No. 03-069-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. Arnold T. Tschanz, Senior Staff Officer, Permits, Registrations and Imports, PPQ, APHIS, 4700 River Road Unit 133, Riverdale, MD 20737-1236; (301) 734-5306.

SUPPLEMENTARY INFORMATION: On December 9, 2004, the Animal and Plant Health Inspection Service (APHIS) published in the Federal Register an advance notice of proposed rulemaking (ANPR) and request for comments (69 FR 71736-71744, Docket No. 03-069-1) concerning whether and how we should amend the regulations that govern the importation of nursery stock. We solicited comments concerning our notice for 90 days, ending March 10, 2005.

In a notice published in the Federal Register on March 10, 2005 (70 FR 11886, Docket No. 03-069-2), we extended the comment period for Docket No. 03-069-1 for an additional 30 days ending April 11, 2005, to allow interested persons additional time to prepare and submit comments.

As described in the December 2004 ANPR, our regulations in “Subpart—Nursery Stock, Plants, Roots, Bulbs, Seeds, and Other Plant Products” (7 CFR 319.37 through 319.37-14) currently either (1) prohibit the importation of plants for planting, (2) allow the importation of plants for planting subject to specific restrictions such as additional declarations on phytosanitary certificates or postentry quarantine, or (3) allow the importation of plants for planting subject to general restrictions such as phytosanitary certificates and inspection at a Federal plant inspection station or port of entry.

In the ANPR, we solicited comments on the idea of establishing a new category for certain taxa of plants for planting that would be excluded from importation pending risk evaluation and approval. As described in the ANPR, a taxon in this new category would, with certain exceptions for plants produced under clean stock or best management practices programs, be excluded from importation until APHIS has completed a pest risk assessment (PRA) and the PRA indicated that the taxon could be imported safely. The PRA would provide us an opportunity to identify any phytosanitary mitigation measures that might be necessary to safely import plants for planting of that taxon; those mitigation measures could then be added to the regulations and the taxon removed from the list of taxa excluded from importation pending risk evaluation and approval.

We have recently completed a set of draft criteria that could be used in the decisionmaking process for determining which taxa might be included in the “excluded pending” category, should such a category be established. The draft criteria may be viewed on the Internet at http://www.aphis.usda.gov/ppq/Q37/workshop/ or may be obtained from the person listed under FOR FURTHER INFORMATION CONTACT. The draft criteria are also available in our reading room (information on the location and hours of the reading room is provided under the heading ADDRESSES at the beginning of this document).

In order to provide a forum for discussing those draft criteria and associated issues, such as how any such category might be implemented were it to be adopted, we will be holding a public meeting on May 25, 2005, in Riverdale, MD. The meeting will use a workshop format to allow for more effective information exchange between APHIS personnel and those interested persons who attend the meeting. So that individuals who are unable to attend the meeting have an opportunity to provide comments on the draft criteria and the subject of establishing a new category for taxa excluded from importation pending risk evaluation and approval, we are also reopening the comment period for our December 2004 ANPR until June 3, 2005.

Registration

Due to space considerations, attendance at the public meeting will be limited. We encourage preregistration. You may register by visiting http://www.aphis.usda.gov/ppq/q37/workshop or by contacting Ms. Linda Toran by May 20, 2005, at (301) 734-5307 or by e-mail at Linda.C.Toran@aphis.usda.gov. Check-in on the day of the meeting will begin at 7:30 a.m.

Parking and Security Procedures

Please note that a fee of $2.25 is required to enter the parking lot at the USDA Center at Riverside. The machine accepts $1 bills or quarters.

Picture identification is required to be admitted into the building. Upon entering the building, visitors should inform security personnel that they are attending the Nursery Stock meeting.

Done in Washington, DC, this 26th day of April 2005.
W. Ron DeHaven,
Administrator, Animal and Plant Health Inspection Service.

[FR Doc. 05-8661 Filed 4-29-05; 8:45 am]

BILLING CODE 3410-34-P